DEPARTMENT OF AGRICULTURE

Natural Resources Conservation Service

Finding of No Significant Impact for Tobosofkee Creek Watershed; Lamar and Monroe Counties, GA, June 2002

Introduction

The Tobosofkee Creek Watershed is a federally assisted action authorized for planning under Public Law 83-566, the Watershed Protection and Flood Prevention Act. An environmental assessment was undertaken in conjunction with the development of the watershed plan. This assessment was conducted in consultation with local, State, and Federal agencies as well as with interested organizations and individuals. Data developed during the assessment are available for public review at the following location: U.S. Department of Agriculture, Natural Resources Conservation Service, 355 East Hancock Avenue, Athens, Georgia 30601.

Recommended Action

This document describes a plan for watershed protection, and improvement of water quality, and includes measures for the control of agricultural animal waste related pollution, and reduction of sediment from pasture and cropland. The plan reduces excessive animal waste, and associated nutrients and bacteria entering waterways from about 20 beef, 13 dairy, 4 poultry, and 1 swine operation. The plan also provides measures to reduce nutrient runoff and erosion on 3,450 acres of cropland, sedimentation from stream banks and animal walkways will be substantially reduces and forage quality will be improves on 10,347 acres of pasture. These measures will be accomplished by providing financial and technical assistance through a local sponsor.

The principal project measures are to:

1. Develop and install approximately 38 animal waste management systems and provide enhanced cover to 13,797 acres of cropland, pasture, and adjoining stream banks to reduce sedimentation, improve water quality improve fish and wildlife habitats, enhance crop productivity, and enhance forage production. These practices will include all or parts of the following: fencing, cross fencing with gates, alternative livestock water supply with piping and troughs, stream crossings, riparian buffers, animal waste, flush down and hose down systems, solid waste separators, heavy use protection areas, solid waste stack facilities and dead bird composters on 20 beef, 13 dairy, 4 poultry and 1 swine operation. Conservation management, with nutrient and grazing land management practices, will be used when applying animal waste.

2. The measures will be planned and installed by developing long-term contracts will landowners.

Effects of Recommended Action

Installation of animal waste management measures and grazing land practices will reduce offsite nutrient, bacteria, sediment and chemical damages, and increase utilization of nutrients onsite. The results will be a significant reduction in current impairments to the area's water quality, biological habitats, recreational opportunities, land values and improvement of long-term productivity and quality of pastureland in the watershed. Installation of the selected plan will also provide local and regional employment, promote rural economic development in the drainage area, and provide long term natural resource protection in the watershed.

The project measures will reduce agricultural related nutrients, bacteria and sediment entering watershed streams, the Tobosofkee Creek and Lake Tobosofkee. The project will also minimize the impact on surface and ground water quality by:

• Reducing the 61,115 tons of sediment from agricultural lands and stream banks by 45%.

• Providing a significant reduction in the amount of nitrates, ammonia, and bacteria delivered annually to area waterways, thus improving biological habitats, recreational opportunities, and real estate values.

• Improving cropland and paster productivity in the watershed by an average of 28%.

Grazing land practices will increase forage productivity through improved management and utilizing waste more efficiently. This will reduced stream enrichment and conserve the nutrients for plant production. The proposed plan will also encourage and promote the agricultural enterprises in the watershed through improved efficiency.

Wildlife habitat will not be disturbed during installation of animal waste systems and grazing land practices. No wetlands, wildlife habitat, fisheries, prime farmland, or cultural resources will be destroyed or threatened by this project. Some 2,316 acres of wetland and wetland type wildlife habitat will be improved. Conversions to permanent vegetation will provide a more diverse upland game habitat. The value of woodland habitat will not decline. Fishery habitats will also be maintained.

No endangered or threatened plant or animal species will be adversely affected by the project.

There are no wilderness areas in the watershed.

Scenic values will be completed with improved riparian quality and cover conditions resulting from the installation of conservation animal waste management system and grazing land practices.

Alternatives

Four alternative plans, that included 27 combinations of systems and practices, was considered in project planning. No significant adverse environmental impacts are anticipated from installation of the selected alternative. Also, the planned action is the most practical, complete and acceptable means of protecting the watershed by managing animal waste and stabilizing pasture and cropland.

Consultation—Public Participation

Since the 1980's citizens within the Tobesofkee Watershed have recognized increasing water quality issues and potential problems related to agriculture. Land-owners utilized assistance through EQIP to address their concerns but were limited by program policy and budget constraints. Meetings were held to evaluate the problem and determine if the issues warranted application for additional federal assistance through the PL-566, Small Watershed Program. Based on data obtained and interest within the watershed the Districts (Sponsors) and NRCS agreed that this watershed should be targeted for special water quality improvement efforts. The Sponsor(s) submitted an application on September 27, 2001 to the Georgia Soil and Water Conservation Commission for NRCS planning assistance under the PL-566 authority. The Commission approved the application and gave it high priority.

To facilitate consultation and public involvement in the Tobesofkee Creek Watershed Project, a project organizational structure was developed. It considered of the Project Sponsors, who were supported by an Interdisciplinary Planning Team, a Technical Advisory Group, and Stakeholder Involvement.

NRCS developed an interdisciplinary, interagency planning team to work with the Sponsor, landowners, and other interested groups. The Technical Advisory Group was compiled of specialists from the Lamar County Soil and Water Conservation District; Towaliga Soil and Water Conservation District (SWCD); Georgia Cooperative Extension Service (CES), Georgia Department of Natural Resources, Environmental Protection Division (EPD), Water Protection Branch Georgia Department of Natural Resources, Wildlife Resources Division (WRD), Game and Fisheries Section; Georgia Forestry Commission; USDA, Farm Services Agency (FSA); USDA, Natural Resources Conservation Service (NRCS); USDA, US Forest Service (FS); USDI, Fish and Wildlife Service (F&WS) to again insight to the magnitude of the problems and possible solutions.

At the initiation of the planning process, meetings were held with key farmers and District representatives from the watershed area to discuss problem identification, conservation systems and PL-566 requirements. A public meeting was held on January 24, 2002 to scope the problems and concerns and to explain impacts of the PL-566 program initiatives relative to a watershed project and discuss possible solutions. Notice of the meeting appeared in the local newspaper and on radio for several weeks prior to the date. Seventy-five landowners, operators, and interested citizens attended the meeting.

Several meetings, group discussions, and interviews were held with local planners, individuals, government officials, and other technical experts to inventory resources, identify cause-effect relationships, and develop—and evaluate—alternative plans of action to address resource concerns.

Another public meetings was held in Redbone, Georgia on May 23, 2002. Local operators, landowners, and citizens attended the meeting. The results of surveys, studies, field investigations, and alternative plans of actions were presented. Those attending agreed upon a Recommended Plan, developed by the Planning Team.

From January 2002 to May 2002, representatives of the SWCD, NRCS, EPD, WRD, CES, and other officials evaluated data to determine the quality and quantity of resources that would be impacted by selected practices and to consider possible mitigation measures. It was the consensus of the group that an Environmental Impact Statement (EIS) was not needed for this project. This agreement was based on the type of practices and systems planned and that each would be installed on previously disturbed land. With this consensus, and Environmental Assessment (EA) was prepared accordingly.

Upon review of the EA, this Finding of No Significant Impact (FONSI) was prepared. These documents are being distributed to all concerned agencies, groups, and interested individuals. A Notice of Availability of the FONSI is being published in the Federal Register.

Agency consolations and public participation to date has shown no conflicts with the implementation of the selected plan.

Conclusion

The Environmental Assessment summarized above indicates that this Federal action will not cause significant adverse local, regional, or national impacts on the environment. Therefore, based on the above findings, I have determined that an environmental impact statement for the recommended Tobosofkee Creek Watershed Plan is not required.

Dated: June 18, 2002.
Leonard Jordan,
State Conservationist.

[FR Doc. 02-16413 Filed 7-1-02; 8:45 am]

BILLING CODE 3410-16-M